DEPARTMENT OF THE TREASURY

Fiscal Service

Financial Management Service: Proposed Collection of Information: Depositor's Application for Payment of Postal Savings Certificate (TFS 5118)

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, the Financial Management Service solicits comments concerning the “Depositor's Application for Payment of Postal Savings Certificate (TFS 1158)”.

DATES: Written comments should be received on or before September 27, 2004.

ADDRESSES: Direct all written comments to Financial Management Service, 3700 East West Highway, Records and Information Management Program Staff, Room 135, Hyattsville, Maryland 20782.

FOR FURTHER INFORMATION CONTACT: Requests for additional information should be directed to Rose Brewer, Judgment Fund Branch, 3700 East West Highway, Room 630F, Hyattsville, Maryland 20782, (202) 874-6664.

SUPPLEMENTARY INFORMATION: Pursuant to the Paperwork Reduction Act of 1995, (44 U.S.C. 3506(c)(2)(A)), the Financial Management Service solicits comments on the collection of information described below:

Title: Depositor's Application for Payment of Postal Savings Certificate.

OMB Number: 1510-0029.

Form Number: TFS 5118.

Abstract: This form is used when depositors have lost, destroyed or misplaced their Postal Savings Certificates. This form replaces the certificates to support the application for payment.

Current Actions: Extension of currently approved collection.

Type of Review: Regular.

Affected Public: Individuals or households.

Estimated Number of Respondents: 200.

Estimated Time Per Respondent: 15 minutes.

Estimated Total Annual Burden Hours: 50.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: July 14, 2004.
Wanda Rogers,
Assistant Commissioner, Financial Operations.

[FR Doc. 04-16773 Filed 7-28-04; 8:45 am]

BILLING CODE 4810-35-M